DEPARTMENT OF HEALTH AND HUMAN SERVICES

National Institutes of Health

Office of the Secretary; Notice of Meeting

Pursuant to section 1009 of the Federal Advisory Committee Act, as amended, notice is hereby given of a meeting of the Interagency Autism Coordinating Committee (IACC or Committee). The meeting will be virtually held and is open to public viewing. The connection information and how to access the meeting will be available on the IACC website (https://iacc.hhs.gov). Advanced registration is recommended. Individuals wishing to participate that need special assistance or other reasonable accommodations should submit a request to the Contact Person listed on this notice at least seven (7) business days prior to the meeting.

The purpose of this IACC meeting is to discuss the draft 2024 IACC Strategic Plan Update, which is focused on co-occurring conditions and their impacts on health outcomes in autistic individuals. This draft report summarizes current knowledge of several physical and mental health conditions and identifies additional research, services, and policy needs to improve health outcomes related to these conditions for autistic people in all communities.

Name of Committee: Interagency Autism Coordinating Committee.

Date: September 23, 2024.

Time: 9:00 a.m. to 11:00 a.m.

Agenda: To discuss the 2024 IACC Strategic Plan Update, which is focused on co-occurring conditions and the impacts on health outcomes for autistic individuals.

Place: National Institutes of Health, Neuroscience Center, 6001 Executive Boulevard, Rockville, MD 20852 (Virtual Meeting).

Cost: The meeting is free and open to the public.

Registration: A registration web link will be posted on the IACC website (www.iacc.hhs.gov) prior to the meeting. Pre-registration is recommended.

Contact Person: Ms. Rebecca Martin, Office of National Autism Coordination, National Institute of Mental Health, NIH.

Phone: 301-435-0886.

Email: IACCPublicInquiries@mail.nih.gov.

Technical issues: If you experience any technical problems, please email IACCPublicInquiries@mail.nih.gov.

Disability Accommodations: Closed Captioning is provided by Zoom. Individuals whose full virtual participation in the meeting will require special accommodations (e.g., sign language or interpreting services, etc.) must submit a request to the Contact Person listed on the notice at least seven (7) business days prior to the meeting. Such requests should include a detailed description of the accommodation needed and a way for the IACC to contact the requester if more information is needed to fill the request. Special requests should be made at least seven (7) business days prior to the meeting; last-minute requests may be made but may not be possible to accommodate.

More Information: Information about the IACC is available on the website: https://iacc.hhs.gov/.

Dated: August 30, 2024.
David W. Freeman,
Supervisory Program Analyst, Office of Federal Advisory Committee Policy.

[FR Doc. 2024-19965 Filed 9-4-24; 8:45 am]

BILLING CODE 4140-01-P